INTERNATIONAL TRADE COMMISSION

[Investigation No. 731-TA-459 (Second Review)]

Polyethylene Terephthalate (PET) Film From Korea

Determination

On the basis of the record ¹ developed in the subject five-year review, the United States International Trade Commission determines,² pursuant to section 751(c) of the Tariff Act of 1930 (the Act),³ that revocation of the antidumping duty order on PET film from Korea would be likely to lead to continuation or recurrence of material injury to an industry in the United States within a reasonably foreseeable time.

¹ The record is defined in § 207.2(f) of the Commission's Rules of Practice and Procedure (19 CFR 207.2(f)).

² Commissioner Shara L. Aranoff not participating.

³ 19 U.S.C. 1675(c).

Background

The Commission instituted this review on February 2, 2005 (70 FR 5473), and determined on May 9, 2005, that it would conduct an expedited review (70 FR 30482, May 26, 2005).

The Commission transmitted its determination in this review to the Secretary of Commerce on September 29, 2005. The views of the Commission are contained in USITC Publication 3800 (September 2005), entitled Polyethylene Terephthalate (PET) Film From Korea: Investigation No. 731-TA-459 (Second Review).

By order of the Commission.
Issued: October 3, 2005.
Marilyn R. Abbott,
Secretary to the Commission.

[FR Doc. 05-20204 Filed 10-6-05; 8:45 am]

BILLING CODE 7020-02-P